DEPARTMENT OF HEALTH AND HUMAN SERVICES

Centers for Disease Control and Prevention

Office of the Chief Science Officer; The Ethics Subcommittee of the Advisory Committee to the Director (ACD), Centers for Disease Control and Prevention (CDC), and the Public Health Ethics Committee, Office of the Chief Science Officer, CDC

In accordance with section 10(a)(2) of the Federal Advisory Committee Act (Pub. L. 92-463), CDC announces the following committee meeting.

Name: Joint Meeting of the Ethics Subcommittee, ACD, CDC, and CDC's Public Health Ethics Committee.

Time and Date: 9 a.m.-3:30 p.m., February 16, 2006.

Place: CDC Global Communications Center (Building 19), 1600 Clifton Road, Atlanta, Georgia 30333.

Status: Open to the public, limited only by the space available. The meeting room accommodates approximately 60 people.

Purpose: The meeting will provide a report on the progress of CDC's efforts to increase the capacity of public health ethics, to manage issues involving public health ethics, and to identify the current and future public health ethics needs and priorities at CDC.

Matters To Be Discussed: Agenda items will include highlights of public health activities in 2005; public health ethics at CDC in 2006 and the future; a report on the Pandemic Influenza Planning consultation; public health ethics challenges (focus on science); and a discussion on needs, priorities, and action steps.

Agenda items are subject to change as priorities dictate.

Due to administrative issues that had to be resolved, the Federal Register notice is being published less than fifteen days before the date of the meeting.

Contact Person For More Information: Jan Devier, Dr.P.H., M.P.A., Health Scientist and Senior Advisor, Science Vision and Alliances Team, Office of the Chief Science Officer, 1600 Clifton Road, NE., M.S. D-50, Atlanta, Georgia 30333. Telephone (404) 639-4690.

The Director, Management Analysis and Services Office, has been delegated the authority to sign Federal Register notices pertaining to announcements of meetings and other committee management activities for both CDC and the Agency for Toxic Substances and Disease Registry.

Dated: February 6, 2006.
Alvin Hall,
Director, Management Analysis and Services Office, Centers for Disease Control and Prevention.

[FR Doc. E6-1822 Filed 2-9-06; 8:45 am]

BILLING CODE 4163-18-P